SMALL BUSINESS ADMINISTRATION

CapitalSpring SBIC, L.P., License No. 09/79-0454, Notice Seeking Exemption Under the Small Business Investment Act, Conflicts of Interest

Notice is hereby given that CapitalSpring SBIC, L.P., 950 3rd Avenue, 24th Floor, New York, NY 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). CapitalSpring Partners SBIC, L.P. proposes to provide debt security financing to LBE Holdings, LLC., 5305 Spine Road, Suite A, Boulder, CO 80301.

The financing is brought within the purview of § 107.730(a)(4) of the Regulations because Capital Spring Finance, Company, LLC and FCP III., all Associates of CapitalSpring SBIC, L.P., will participate in the financing, including a discharge of an obligation to CapitalSpring Finance Company, LLC and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: December 12, 2012.
Sean J. Greene,
Associate Administrator for Investment.

[FR Doc. 2012-31292 Filed 1-9-13; 8:45 am]

BILLING CODE P